DEPARTMENT OF THE INTERIOR

National Park Service

Bison Brucellosis Remote Vaccination, Draft Environmental Impact Statement, Yellowstone National Park, Wyoming

ACTION: Reopening of public comment period.

SUMMARY: The National Park Service announces the reopening of the public comment period on the Bison Brucellosis Remote Vaccination Draft Environmental Impact Statement. The original comment period was from 28 May 2010 to 26 July 2010. The reopened comment period will end on 24 September 2010. If you submitted comment previously, you do not need to resubmit them. We will also accept any comments that we receive between the original comment period end date of 26 July 2010 and today.

DATES: Comments on the Draft Environmental Impact Statement will be accepted through 24 September 2010.

ADDRESSES: Submit comments to Yellowstone Center for Resources, Yellowstone National Park, P.O. Box 168, Yellowstone National Park, Wyoming 82190-0168. Copies of the draft EIS are available on the Internet at http://parkplanning.nps.gov/yell and at the Center for Resources, 27 Officer's Row, Yellowstone National Park.

FOR FURTHER INFORMATION CONTACT: The Bison Ecology and Management Office, Yellowstone National Park, P.O. Box 168, Yellowstone National Park, Wyoming 82190, (307) 344-2213, YELL_Remote_Vaccine@nps.gov.

SUPPLEMENTARY INFORMATION: The NPS requests comments on the draft EIS from the public, Federal agencies, State agencies, local governments, and tribal governments. If you wish to comment, you may submit your comments by any one of several methods. You may comment via the Internet at http://parkplanning.nps.gov/yell. You may also mail comments to the Bison Ecology and Management Office, Center for Resources, P.O. Box 168, Yellowstone National Park, Wyoming 82190. Finally, you may hand-deliver comments to the Center for Resources at 27 Officer's Row in Yellowstone National Park, Wyoming.

Comments will not be accepted by facsimile, electronic mail, or methods other than those specified above. Before including your address, phone number, e-mail address, or other personal identifying information in your comment, you should be aware that your entire comment—including your personal identifying information—may be made publicly available at any time. While you can ask us in your comment to withhold your personal identifying information from public review, we cannot guarantee that we will be able to do so.

Dated: August 24, 2010.
John Wessels,
Regional Director, Intermountain Region.

[FR Doc. 2010-21902 Filed 9-1-10; 8:45 am]

BILLING CODE 4312-CT-P